Title 3—

The President

Proclamation 9134 of May 30, 2014

African-American Music Appreciation Month, 2014

By the President of the United States of America

A Proclamation

Our country is home to a proud legacy of African-American musicians whose songs transcend genre. They make us move, make us think, and make us feel the full range of emotion—from the pain of isolation to the power of human connection. During African-American Music Appreciation Month, we celebrate artists whose works both tell and shape our Nation's story.

For centuries, African-American music has lifted the voices of those whose poetry is born from struggle. As generations of slaves toiled in the most brutal of conditions, they joined their voices in faithful chords that both captured the depths of their sorrow and wove visions of a brighter day. At a time when dance floors were divided, rhythm and blues and rock and roll helped bring us together. And as activists marched for their civil rights, they faced hatred with song. Theirs was a movement with a soundtrack—spirituals that fed their souls and protest songs that sharpened their desire to right the great wrongs of their time.

The influence of African-American artists resounds each day through symphony halls, church sanctuaries, music studios, and vast arenas. It fills us with inspiration and calls us to action. This month, as we honor the history of African-American music, let it continue to give us hope and carry us forward—as one people and one Nation.

NOW, THEREFORE, I, BARACK OBAMA, President of the United States of America, by virtue of the authority vested in me by the Constitution and the laws of the United States, do hereby proclaim June 2014 as African-American Music Appreciation Month. I call upon public officials, educators, and all the people of the United States to observe this month with appropriate activities and programs that raise awareness and foster appreciation of music that is composed, arranged, or performed by African Americans.

IN WITNESS WHEREOF, I have hereunto set my hand this thirtieth day of May, in the year of our Lord two thousand fourteen, and of the Independence of the United States of America the two hundred and thirty-eighth.

[FR Doc. 2014-13154

Filed 6-3-14; 11:15 am]

Billing code 3295-F4